SMALL BUSINESS ADMINISTRATION

[Disaster Declaration #21292 and #21293; TEXAS Disaster Number TX-20060]

Administrative Disaster Declaration of a Rural Area for the State of Texas

AGENCY: U.S. Small Business Administration.

ACTION: Notice.

SUMMARY: This is notice of an Administrative disaster declaration of a rural area for the state of Texas dated September 15, 2025.

Incident: Severe Storms, Straight-line Winds, and Flooding.

DATES: Issued on September 15, 2025.

Incident Period: July 2, 2025 through July 18, 2025.

Physical Loan Application Deadline Date: November 14, 2025.

Economic Injury (EIDL) Loan Application Deadline Date: June 15, 2026.

ADDRESSES: Visit the MySBA Loan Portal at https://lending.sba.gov to apply for a disaster assistance loan.

FOR FURTHER INFORMATION CONTACT: Sharon Henderson, Office of Disaster Recovery and Resilience, U.S. Small Business Administration, 409 3rd Street SW, Suite 6050, Washington, DC 20416, (202) 205-6734.

SUPPLEMENTARY INFORMATION: Notice is hereby given as a result of the Administrator's disaster declaration of a rural area, applications for disaster loans may be submitted online using the MySBA Loan Portal https://lending.sba.gov or in person at other locally announced locations. Please contact the SBA disaster assistance customer service center by email at dcs@sba.gov or by phone at 1-800-659-2955 for further assistance. If you are deaf, hard of hearing, or have a speech disability, please dial 7-1-1 to access telecommunications relay services.

The following areas have been determined to be adversely affected by the disaster:

Primary Counties: Coke, Concho, Kendall, Mason, Sutton

The Interest Rates are:

| Percent
For Physical Damage:
Homeowners with Credit Available Elsewhere | 5.625
Homeowners without Credit Available Elsewhere | 2.813
Businesses with Credit Available Elsewhere | 8.000
Businesses without Credit Available Elsewhere | 4.000
Private Non-Profit Organizations with Credit Available Elsewhere | 3.625
Private Non-Profit Organizations without Credit Available Elsewhere | 3.625
For Economic Injury:
Business and Small Agricultural Cooperatives without Credit Available Elsewhere | 4.000
Private Non-Profit Organizations without Credit Available Elsewhere | 3.625

The number assigned to this disaster for physical damage is 212926 and for economic injury is 212930.

The State which received an SBA Administrative Rural declaration is Texas.

(Catalog of Federal Domestic Assistance Number 59008)

(Authority: 13 CFR 123.3(b).)

James Stallings,
Associate Administrator, Office of Disaster Recovery and Resilience.

[FR Doc. 2025-18071 Filed 9-17-25; 8:45 am]

BILLING CODE 8026-09-P